DEPARTMENT OF HOUSING AND URBAN DEVELOPMENT

[Docket No. FR-5280-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Jennifer Stomber, 2100 Second St., SW., Stop 7901, Washington, DC 20593; (202) 475-5609; GSA: Mr. Gordon Creed, Acting Deputy Assistant Commissioner, General Services Administration, Office of Property Disposal, 18th & F Streets, NW., Washington, DC 20405; (202) 501-0084; INTERIOR: Mr. Michael Wright, Acquisition & Property Management, Department of the Interior, 1849 C Street, NW., MS2603, Washington, DC 20240; (202) 208-5399; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: August 27, 2009.
Mark R. Johnston,
Deputy Assistant Secretary for Special Needs.

Suitable/Available Properties

Building

Idaho

Bldg. CF-602

Idaho National Lab

Idaho Falls ID 83415

Landholding Agency: GSA

Property Number: 54200920012

Status: Excess

GSA Number: 9-B-ID-569

Comments: 4224 sq. ft., presence of asbestos/lead paint, off-site use only.

Bldg. ARA-617

Idaho National Lab

Idaho Falls ID 83415

Landholding Agency: GSA

Property Number: 54200920013

Status: Excess

GSA Number: 9-B-ID-571

Comments: 1631 sq. ft., needs repair, presence of asbestos/possible contamination, off-site use only.

Bldg. PBF-619

Idaho National Lab

Idaho Falls ID 83415

Landholding Agency: GSA

Property Number: 54200920014

Status: Excess

GSA Number: 9-B-ID-568

Comments: 5704 sq. ft., needs repair, presence of asbestos/lead paint, possible contamination, offsite use only.

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements.

U.S. Army Reserve Center

904 W. Washington St.

Mount Pleasant IA 52641

Landholding Agency: GSA

Property Number: 54200920018

Status: Excess

GSA Number: 7-D-IA-0509

Comments: Approx. 5811 sq. ft., presence of lead paint, most recent use—admin/maint/storage, license/easement, published incorrectly on 7/10/09.

Maine

3 Bldgs.

Acadia National Park

Hancock ME

Landholding Agency: Interior

Property Number: 61200930005

Status: Unutilized

Directions: 82338, 82339, 82340

Comments: 80/600/1480 sq. ft., off-site use only.

Montana

Raymond MT Property

1559 Hwy 16 North

Raymond MT 59256

Landholding Agency: GSA

Property Number: 54200920019

Status: Surplus

GSA Number: 7-X-MT-630

Comments: 650 sq. ft., most recent use—office, off-site use only.

Land

Texas

Bee Cave Natl Guard Property

408 St. Stephens School Rd

Austin TX 78746

Landholding Agency: GSA

Property Number: 54200930007

Status: Surplus

GSA Number: 7-D-TX-1108

Comments: 0.67 acres.

West Virginia

6 Tracts

Matewan WV

Landholding Agency: GSA

Property Number: 54200930008

Status: Excess

GSA Number: 4-D-WV-0556-1

Directions: 1149, 1159, 1161, 1166, 1181, 1187

Comments: 4.57 acres, subject to building restrictions.

Suitable/Unavailable Properties

Building

Arizona

Water Conservation Lab

4331 E. Broadway Rd.

Phoenix AZ 85040

Landholding Agency: GSA

Property Number: 54200820013

Status: Excess

GSA Number: 9-A-AZ-846-1

Comments: 11,365 sq. ft. main bldg. w/11 additional bldgs. & 66 paved parking spaces, easement restrictions, zoning issue.

Arkansas

Job Corps Center

2020 Vance St.

Little Rock AR 72206

Landholding Agency: GSA

Property Number: 54200920003

Status: Surplus

GSA Number: 7-L-AR-0573

Comments: 74,570 sq. ft., 6 bldgs. most recent use—office/residential.

California

Social Security Building

505 North Court Street

Visalia Co: Tulare CA 93291

Landholding Agency: GSA

Property Number: 54200610010

Status: Surplus

GSA Number: 9-G-CA-1643

Comments: 11,727 sq. ft., possible lead paint, most recent use—office.

Old Customs House

12 Heffernan Ave.

Calexico CA 92231

Landholding Agency: GSA

Property Number: 54200710016

Status: Surplus

GSA Number: 9-G-CA-1658

Comments: 16,108 sq. ft., possible asbestos/lead paint, zoned commercial, major repairs for long term use, historic building.

Defense Fuel Support Pt.

Estero Bay Facility

Morro Bay CA 93442

Landholding Agency: GSA

Property Number: 54200810001

Status: Surplus

GSA Number: 9-N-CA-1606

Comments: Former 10-acre fuel tank farm w/associated bldgs./pipelines/equipment, possible asbestos/PCBs.

Boyle Heights SSA Bldg.

N. Breed St.

Los Angeles CA 90033

Landholding Agency: GSA

Property Number: 54200840010

Status: Surplus

GSA Number: 9-G-CA-1676

Comments: 10,815 sq. ft., requires seimic strengthening to satisfy substantial life-safety criteria; expected lateral loads in structure rather high.

Indiana

Radio Tower

Cannelton Locks & Dam

Perry IN

Landholding Agency: GSA

Property Number: 54200830020

Status: Excess

GSA Number: 1-D-IN-569E

Comments: Tower/88 sq. ft. comm storage bldg., heavily wooded area.

John A. Bushemi USARC

3510 W 15th Ave

Gary IN 46404

Landholding Agency: GSA

Property Number: 54200830027

Status: Excess

GSA Number: 1-D-IN-0602

Comments: 18,689 sq. ft. admin bldg & 3780 sq. ft. maintenance bldg.

Maryland

Federal Office Building

7550 Wisconsin Ave.

Bethesda MD 20814

Landholding Agency: GSA

Property Number: 54200920007

Status: Surplus

GSA Number: GMR-1101-1

Comments: 100,000 sq. ft., 10-story, requires major renovation, limited parking.

Massachusetts

Federal Office Bldg

Main & Bridge St.

Springfield MA 01101

Landholding Agency: GSA

Property Number: 54200740002

Status: Excess

GSA Number: MA-6262-1

Comments: 30,000 sq. ft., 27% occupied, recommend complete system upgrade.

Michigan

Social Security Bldg.

929 Stevens Road

Flint MI 48503

Landholding Agency: GSA

Property Number: 54200720020

Status: Excess

GSA Number: 1-G-MI-822

Comments: 10,283 sq. ft., most recent use—office.

Trenton Border Patrol Station

23100 West Road

Brownstown MI 48183

Landholding Agency: GSA

Property Number: 54200910003

Status: Excess

GSA Number: 1-X-MI-828-1

Comments: 3989 sq. ft., possible asbestos/lead paint, most recent use—office/storage.

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs.

Nebraska

Environmental Chemistry

Branch Laboratory

420 South 18th St.

Omaha NE 68102

Landholding Agency: GSA

Property Number: 54200810010

Status: Excess

GSA Number: 7-D-NE-532

Comments: 11,250 sq. ft., needs repair, frequent basement flooding, requires large sump pumps, most recent use—laboratory.

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending.

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants.

New York

Fleet Mgmt. Center

5-32nd Street

Brooklyn NY 11232

Landholding Agency: GSA

Property Number: 54200620015

Status: Surplus

GSA Number: 1-G-NY-0872B

Comments: 12,693 sq. ft., most recent use—motor pool, heavy industrial.

Federal Building

Brinkerhoff/Margaret Streets

Plattsburgh NY 12901

Landholding Agency: GSA

Property Number: 54200820005

Status: Surplus

GSA Number: 1-G-NY-0898-1A

Comments: 13,833 sq. ft., eligible for National Register of Historic Places w/National Ranking of 5, most recent use—office, federal tenants to relocate in August 2008.

Agriculture Inspection Station

193 Meridan Road

Champlain NY 12919

Landholding Agency: GSA

Property Number: 54200910004

Status: Excess

GSA Number: 1-G-NY-0950-1

Comments: 2869 sq. ft., possible asbestos/lead paint.

North Carolina

USCG Station Bldgs.

Cape Hatteras

Buxton Co: Dare NC

Landholding Agency: GSA

Property Number: 54200720002

Status: Excess

GSA Number: 4-U-ND-0747A

Comments: 5 bldgs./11 Other structures, contamination.

North Dakota

North House

10951 County Road

Hannah Co: Cavalier ND 58239

Landholding Agency: GSA

Property Number: 54200720008

Status: Surplus

GSA Number: 7-X-ND-0515-1A

Comments: 1128 sq. ft. residence, off-site use only.

South House

10949 County Road

Hannah Co: Cavalier ND 58239

Landholding Agency: GSA

Property Number: 54200720009

Status: Surplus

GSA Number: 7-X-ND-0515-1B

Comments: 1128 sq. ft. residence, off-site use only.

North House

Highway 40

Noonan Co: Divide ND 58765

Landholding Agency: GSA

Property Number: 54200720010

Status: Surplus

GSA Number: 7-X-ND-0517-1A

Comments: 1564 sq. ft. residence, off-site use only.

South House

Highway 40

Noonan Co: Divide ND 58765

Landholding Agency: GSA

Property Number: 54200720011

Status: Surplus

GSA Number: 7-X-ND-0517-1B

Comments: 1564 sq. ft. residence, off-site use only.

North House

Rt. 1, Box 66

Sarles Co: Cavalier ND 58372

Landholding Agency: GSA

Property Number: 54200720012

Status: Surplus

GSA Number: 7-X-ND-0516-1B

Comments: 1228 sq. ft. residence, off-site use only.

South House

Rt. 1, Box 67

Sarles Co: Cavalier ND 58372

Landholding Agency: GSA

Property Number: 54200720013

Status: Surplus

GSA Number: 7-X-ND-0516-1A

Comments: 1228 sq. ft. residence, off-site use only.

House #1

10925 Hwy 28

Sherwood Co: Renville ND 58782

Landholding Agency: GSA

Property Number: 54200720014

Status: Surplus

GSA Number: 7-X-ND-0518-1B

Comments: 1228 sq. ft. residence, off-site use only.

House #2

10927 Hwy 28

Sherwood Co: Renville ND 58782

Landholding Agency: GSA

Property Number: 54200720015

Status: Surplus

GSA Number: 7-X-ND-0518-1A

Comments: 1228 sq. ft. residence, off-site use only.

North House

10913 Hwy 83

Westhope Co: Bottineau ND 58793

Landholding Agency: GSA

Property Number: 54200720016

Status: Surplus

GSA Number: 7-X-ND-0519-1B

Comments: 1218 sq. ft. residence, off-site use only.

South House

10909 Hwy 83

Westhope Co: Bottineau ND 58793

Landholding Agency: GSA

Property Number: 54200720017

Status: Surplus

GSA Number: 7-X-ND-0519-1A

Comments: 1218 sq. ft. residence, off-site use only.

Ohio

NIKE Site Cd-46

Felicity OH

Landholding Agency: GSA

Property Number: 31200740015

Status: Excess

GSA Number: 1-D-OH-0832

Comments: 8 bldgs., most recent use—Ohio Air Natl Guard site.

PFC Joe R. Hastings

Army Reserve Center

3120 Parkway Dr.

Canton OH 44708

Landholding Agency: GSA

Property Number: 54200840008

Status: Excess

GSA Number: 1-D-OH-835

Comments: 27,603 sq.ft./admin bldg. & vehicle maint. bldg., presence of asbestos/lead paint/radon/PCBs.

Oregon

3 Bldgs/Land

OTHR-B Radar

Cty Rd 514

Christmas Valley OR 97641

Landholding Agency: GSA

Property Number: 54200840003

Status: Excess

GSA Number: 9-D-OR-0768

Comments: 14,000 sq. ft. each/2626 acres, most recent use—radar site, right-of-way.

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint.

Rhode Island

Former SSA Bldg.

Broad & Exchange Streets

Pawtucket RI

Landholding Agency: GSA

Property Number: 54200920008

Status: Excess

GSA Number: 1-G-RI-0518

Comments: 6254 sq. ft., most recent use—office.

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab.

Texas

Bldgs. 5, 6, 7

Federal Center

501 West Felix Street

Ft. Worth Co: Tarrant TX 76115

Landholding Agency: GSA

Property Number: 54200640002

Status: Excess

GSA Number: 7-G-TX-0767-3

Comments: 3 warehouses with concrete foundation, off-site use only.

Border Patrol Station

Sanderson TX 79843

Landholding Agency: GSA

Property Number: 54200910006

Status: Excess

GSA Number: 7-X-TX-1097

Comments: 1500 sq. ft., most recent use—office/garage.

Washington

Blaine Parking Lot

SR 543

Blaine WA 98230

Landholding Agency: GSA

Property Number: 54200830028

Status: Excess

GSA Number: 9-G-WA-1242

Comments: 2665 sq. ft., border crossing.

Land

Arizona

Parking Lot

322 N 2nd Ave.

Phoenix AZ 85003

Landholding Agency: GSA

Property Number: 54200740007

Status: Surplus

GSA Number: AZ-6293-1

Comments: Approx. 21,000 sq. ft., parcel in OU3 study area for clean-up.

SRP Ditch

24th St. & Jones Ave.

Phoenix AZ 85040

Landholding Agency: GSA

Property Number: 54200840001

Status: Surplus

GSA Number: AZ-0849-AA

Comments: Approx. 4131 sq. ft. unimproved land, floodplain.

Salt River Project

Pecos/Alma School Road

#USBR-08-020

Chander AZ 85225

Landholding Agency: GSA

Property Number: 54200920001

Status: Surplus

GSA Number: 9-I-AZ-0850

Comments: Approx. 34,183 sq. ft., ranges from 10-20 ft. wide, very long and narrow.

California

Tract 1607

Lake Sonoma

Rockpile Rd.

Geyserville CA 85746

Landholding Agency: GSA

Property Number: 54200840011

Status: Surplus

GSA Number: 9-GR-CA-1504

Comments: Approx. 139 acres, northern portion not accessible because of steep slopes, rare manzanita species.

Connecticut

MYQ Outer Marker Facility

Enfield CT 06082

Landholding Agency: GSA

Property Number: 54200920004

Status: Surplus

GSA Number: 1-U-CT-0561-1A

Comments: 0.341 acres, only accessible via right of way easement.

Massachusetts

FAA Site

Massasoit Bridge Rd.

Nantucket MA 02554

Landholding Agency: GSA

Property Number: 54200830026

Status: Surplus

GSA Number: MA-0895

Comments: Approx 92 acres, entire parcel within MA Division of Fisheries & Wildlife Natural Heritage & Endangered Species Program.

FAA Locator Antenna LOM

Coleman Road

Southhampton MA 01073

Landholding Agency: GSA

Property Number: 54200920005

Status: Excess

GSA Number: MA-0913-AA

Comments: 1.41 acres.

Michigan

Former Elf Comm. Facility

3041 County Road

Republic MI 49879

Landholding Agency: GSA

Property Number: 54200840012

Status: Excess

GSA Number: 1-N-MI-0827

Comments: 6.69 acres w/transmiter bldg, support bldg., gatehouse, endangered species.

Oregon

20 acres

Cow Hollow Park

Nyssa OR 97913

Landholding Agency: GSA

Property Number: 54200820007

Status: Excess

GSA Number: 9-I-OR-769

Comments: 20 acres w/shower/restroom, eligible for listing on Historic Register.

Pennsylvania

Approx. 16.88

271 Sterrettania Rd.

Erie PA 16506

Landholding Agency: GSA

Property Number: 54200820011

Status: Surplus

GSA Number: 4-D-PA-0810

Comments: Vacant land.

Texas

FAA Outer Marker 18 R/L VYN

1420 Lakeside Pkwy

Flower Mound TX 75028

Landholding Agency: GSA

Property Number: 54200820017

Status: Surplus

GSA Number: 7-U-TX-1090

Comments: 1.428 acres, radar facility, published incorrectly on 8/15/08 as available.

Unsuitable Properties

Building

California

Tract 114-04

Santa Monica NRA

Agoura CA 91301

Landholding Agency: Interior

Property Number: 61200930007

Status: Unutilized

Reasons: Extensive deterioration.

Trailers 4, 5, 6, 7, 9, 11, 12

National Park

Death Valley CA 92328

Landholding Agency: Interior

Property Number: 61200930008

Status: Unutilized

Reasons: Extensive deterioration.

Connecticut

Boathouse

USCG Academy

New London CT 06320

Landholding Agency: Coast Guard

Property Number: 88200930001

Status: Unutilized

Reasons: Secured Area, Extensive deterioration.

Florida

Tracts 105-45, 107-04

Timucuan Eco & Historic Preservation

Jacksonville FL

Landholding Agency: Interior

Property Number: 61200930009

Status: Excess

Reasons: Extensive deterioration.

Maine

3 Bldgs.

Acadia National Park

Hancock ME

Landholding Agency: Interior

Property Number: 61200930006

Status: Unutilized

Directions: 82390, 101723, 101724

Reasons: Extensive deterioration.

New York

Bldg. 53-A

Naval Support Unit

Saratoga Springs NY 12866

Landholding Agency: Navy

Property Number: 77200930013

Status: Excess

Reasons: Secured Area.

Tennessee

Bldg. 35801000

Fort Donelson National Battlefield

Dover TN 37058

Landholding Agency: Interior

Property Number: 61200930010

Status: Unutilized

Reasons: Extensive deterioration.

Texas

Excell Helium Plant

Masterson TX 79058

Landholding Agency: GSA

Property Number: 54200930006

Status: Surplus

GSA Number: 7-D-TX-772

Reasons: Extensive deterioration.

Bldgs. HB046, 0074

LBJ Natl Historic Park

Stonewall TX 78671

Landholding Agency: Interior

Property Number: 61200930011

Status: Excess

Reasons: Extensive deterioration.

Tracts 01-101, 01-104

LBJ Natl Historic Park

Johnson City TX 78636

Landholding Agency: Interior

Property Number: 61200930012

Status: Unutilized

Reasons: Extensive deterioration.

Land

Florida

Encroachment #34

Gulf Intracoastal Waterway

Perdido Key FL

Landholding Agency: GSA

Property Number: 54200920016

Status: Excess

GSA Number: 4-D-FL-1223-AC

Reasons: Floodway, Not accessible by road.

[FR Doc. E9-21075 Filed 8-31-09; 8:45 am]

BILLING CODE 4210-67-P